DEPARTMENT OF THE INTERIOR

Fish and Wildlife Service

[FWS-R1-R-2009-N118; 1265-0000-10137-S3]

Keālia Pond National Wildlife Refuge and Kakahai‘a National Wildlife Refuge, Maui County, HI

AGENCY: Fish and Wildlife Service, Interior.

ACTION: Notice of intent to prepare a comprehensive conservation plan and National Environmental Policy Act document and announcement of public open house meetings.

SUMMARY: We, the U.S. Fish and Wildlife Service (Service), intend to prepare a comprehensive conservation plan (CCP) for the Keālia Pond and Kakahai‘a National Wildlife Refuges (NWRs). We will also prepare an evaluation under the National Environmental Policy Act (NEPA) to analyze the potential environmental effects of various CCP alternatives. We provide this notice in compliance with our CCP policy to advise the public, other Federal and State agencies, and Native Hawaiian organizations of our intentions and to obtain suggestions and information on the scope of issues to be considered in the planning process. We are also announcing two public open house meetings; see SUPPLEMENTARY INFORMATION for details.

DATES: Please provide written comments on the scope of the CCP by November 19, 2009.

ADDRESSES: Send your comments or requests for more information by any of the following methods:

E-mail: FW1PlanningComments@fws.gov. Include “Maui NWRC Scoping Comments” in the subject line of the message.

Fax: Attn: Glynnis Nakai, (808) 875-2945.

U.S. Mail: Glynnis Nakai, Project Leader, Maui National Wildlife Refuge Complex, P.O. Box 1042, Kīhei, HI 96753.

Additional information about the CCP planning process is available on the Internet at http://www.fws.gov/kealiapond and http://www.fws.gov/kakahaia.

FOR FURTHER INFORMATION CONTACT: Glynnis Nakai, Project Leader, (808) 875-1582, or Glynnis_Nakai@fws.gov.

SUPPLEMENTARY INFORMATION:

Background

The CCP Process

The National Wildlife Refuge System Administration Act of 1966 (16 U.S.C. 668dd-668ee (Administration Act), as amended by the National Wildlife Refuge System Improvement Act of 1977, requires us to develop a CCP for each national wildlife refuge. The purpose of developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

The Service will prepare a CCP/NEPA document in compliance with NEPA of 1969, as amended (42 U.S.C. 4321 et seq.); NEPA regulations (40 CFR parts 1500-1508); other applicable Federal laws and regulations; and our policies and procedures for compliance with those laws and regulations.

Each unit of the NWRS is established for specific purposes. These purposes guide development and prioritization of management goals and objectives within the NWRS mission and determine how the public can use each refuge. The planning process is a way for us and the public to evaluate management goals and objectives for the best possible conservation of important wildlife habitat, while providing for wildlife-dependent recreational opportunities that are compatible with the refuges' establishing purposes and the mission of the NWRS.

We will conduct a planning process that provides opportunities for the public, Federal and local government agencies, Native Hawaiian organizations, and others to participate in issue scoping and public comment. We request input for issues, concerns, ideas, and suggestions for the future management of Keālia Pond and Kakahai‘a NWRs.

We will also give the public an opportunity to provide input at open houses to identify issues and concerns. All information provided voluntarily by mail, phone, or at public meetings becomes part of our official public record. We will handle requests for comments received in accordance with the Freedom of Information Act, NEPA, and Service and Departmental policies and procedures.

The Refuges

Keālia Pond and Kakahai‘a NWRs are part of the Maui National Wildlife Refuge Complex. Located along the southern shore of Maui, Keālia Pond NWR was established in 1992 for the purpose of providing habitat for endangered Hawaiian waterbirds, specifically the ae’o or Hawaiian stilt, and ’alae ke’oke’o or Hawaiian coot.

Keālia Pond is one of the largest natural wetlands remaining in the Hawaiian Islands. The 691-acre Refuge is administered under a perpetual conservation easement from Alexander and Baldwin, Inc. Habitats found on the Refuge include open water, fresh to brackish water marsh, mudflat, grassland, upland shrub, and coastal beach strand.

Keālia Pond NWR contains one of the largest concentrations of wetland birds in Hawai’i and is an important breeding, feeding, and resting area for the Hawaiian stilt and Hawaiian coot. In addition, Keālia Pond NWR provides a strategic landfall for migratory birds coming from Alaska, Siberia, and Asia, including koloa mapu or Northern pintail, koloa moha or Northern shoveler, lesser scaup, kolea or Pacific golden-plover, and ’akekeke or ruddy turnstone. A total of 110 bird species have been documented on the Refuge. The majority of the Refuge is closed to general public access; however, trails, overlooks, and educational programs provide the public with opportunities to view and appreciate some of Hawai’i's endangered and migratory wildlife.

Kakahai‘a NWR is located on the southeastern coast of Moloka’i. It was established to protect and provide habitat for endangered species. Habitats found on this Refuge include open water, freshwater marsh, mudflat, grassland, and shrubland. An inland Hawaiian fishpond is also located on the Refuge. The Refuge provides important breeding, feeding, and resting areas for endangered waterbirds, a variety of migratory waterfowl, shorebirds, and other wetland birds. Some of the more common migrants are koloa mapu or Northern pintail, and kolea or Pacific golden-plover. Kakahai‘a NWR is closed to the general public; however, volunteers occasionally conduct wetland education programs.

Scoping: Preliminary Issues, Concerns, and Opportunities

We have identified preliminary issues, concerns, and opportunities to be addressed in the CCP. Additional issues may be identified through public scoping.

During the CCP planning process, the Service will analyze methods for enhancing the wildlife and habitat resources, visitor services, protection of cultural and historic resources, and facilities maintenance of the Keālia Pond and Kakahai‘a NWRs while providing quality opportunities for wildlife-dependent recreation.

Public Meetings

Public open house meetings will be held at the following locations to provide information on the CCP and receive public comments. Opportunities for additional public input will be announced throughout the planning process.

Date | Time | Location
Wednesday, November 4, 2009 | 6:30-8:30 p.m. | Mitchel Pauole Center, Conference Room, 90 Ainoa Street, Kaunakakai, Moloka’i, HI 96748.
Thursday, November 5, 2009 | 6:30-8:30 p.m. | Kihei Community Center, Main Hall, 303 East Lipoa Street, Kihei, Maui, HI 96753.

Public Availability of Comments

All comments—including your personal identifying information—may be made publicly available at any time. While you can ask us in your comment to withhold your personal identifying information from public review, we cannot guarantee that we will be able to do so.

Dated: October 13, 2009.
David J. Wesley,
Acting Regional Director, Region 1, Portland, Oregon.

[FR Doc. E9-25139 Filed 10-19-09; 8:45 am]

BILLING CODE 4310-55-P